SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) of 1995 44 U.S.C Chapter 35 requires federal agencies to publish a notice in the Federal Register concerning each proposed collection of information before submission to OMB, and to allow 60 days for public comment in response to the notice. This notice complies with that requirement.

DATES: Submit comments on or before June 2, 2017.

ADDRESSES: Send all comments to Scott Henry, Director, OED Performance, Office of Entrepreneurial Development, U.S. Small Business Administration, 409 3rd Street SW., Suite 6200, Washington, DC 20416.

FOR FURTHER INFORMATION CONTACT: Scott Henry, Director, OED Performance, 202-205-6474, oedsurvey@sba.gov; or Curtis B. Rich, Management Analyst, 202-205-7030, curtis.rich@sba.gov.

SUPPLEMENTARY INFORMATION: This is a request to extend a currently approved collection with some revisions aimed at reducing burden.

Title: Entrepreneurial Development Customer Intake Form & Training Report Form.

Abstract: SBA Forms 641 (Client Intake Form) and 888 (Training Form) are used to collect counseling, training and economic impact information from SBA Resource Partners and contractors that deliver business technical assistance. The forms are used in each instance of assistance received (counseling or training). This data is used to understand the outputs and outcomes realized by SBA Resource Partners. Small revisions to the current Form 641 will be made to reduce burden.

Description of Respondents: Individuals who receive counseling or training through SBA's Resource Partners, SBA Resource Partners, (including Small Business Development Centers (SBDC), and SCORE), and other SBA business technical assistance providers.

Solicitation of Public Comments: SBA is requesting comments on (a) whether the collection of information is necessary for the agency to properly perform its functions; (b) whether the burden estimates are accurate; (c) whether there are ways to minimize the burden, including through the use of automated techniques or other forms of information technology; and (d) whether there are ways to enhance the quality, utility, and clarity of the information collected.

SBA Form Numbers: 641, 888.

Summary of Information Collection
SBA Form | Number of respondents | Burden per respondent (minutes) | Total burden (hours)
Form 641 First Visit | 340,000 | 6 | 34,000
Form 641 Follow-Up | 83,000 | 8 | 11,067
Form 641 Total |  |  | 45,067
Form 888 | 63,000 | 5 | 5,250

Total Annual Burden for both forms: 50,317 hours

Curtis B. Rich,
Management Analyst.

[FR Doc. 2017-06456 Filed 3-31-17; 8:45 am]

BILLING CODE P